DEPARTMENT OF DEFENSE

Office of the Secretary

Meeting of the President's Information Technology Advisory Committee (Formerly the Presidential Advisory Committee on High Performance Computing and Communications, Information Technology, and the Next Generation Internet)

ACTION: Notice of meeting.

SUMMARY: This notice sets forth the schedule and summary agenda for the next meeting of the President's Information Technology Advisory Committee. The meeting will be open to the public. Notice of this meeting is required under the Federal Advisory Committee Act, (Pub. L. 92-463).

DATES: May 18, 2000.

ADDRESSES: NSF Board Room (Room 1235), National Science Foundation, 4201 Wilson Boulevard, Arlington, VA 22230.

Proposed Schedule and Agenda

The President's Information Technology Advisory Committee (PITAC) will meet in open session from approximately 8:30 a.m. to 12 p.m. and 1:30 p.m. to 4:30 p.m. on May 18, 2000. This meeting will include:

(1) Updates on PITAC's panels on: learning, digital libraries; open source software; government; healthcare; the digital divide; and international issues.

(2) The issues of the digital divide.

(3) Information technology strategies in Federal agencies.

This notice is being published less than 15 days prior to meeting because of administrative oversight.

FOR FURTHER INFORMATION CONTACT: The National Coordination Office for Computing, Information, and Communications provides information about this Committee on its web site at: http://www.ccic.gov; it can also be reached at (703) 306-4722. Public seating for this meeting is limited, and is available on a first-come, first served basis.

Dated: May 1, 2000.
L. N. Bynum,
Alternate OSD Federal Register Liaison Officer, Department of Defense.

[FR Doc. 00-11196 Filed 5-4-00; 8:45 am]

BILLING CODE 5001-10-M